DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Report of Organization (Company Organization Survey).

Form Number(s): NC-99001.

Agency Approval Number: 0607-0444.

Type of Request: Revision of a currently approved collection.

Burden: 91,255 hours.

Number of Respondents: 182,000.

Avg Hours Per Response: 30 minutes.

Needs and Uses: The Census Bureau is requesting a revision of the currently approved Company Organization Survey (COS) data collection for the 2002 survey year. The Census Bureau will conduct the 2002 COS in conjunction with the 2002 Economic Census and will coordinate these collections so as to minimize response burden. The Census Bureau will add a question in the 2002 COS in order to enhance content. We will include a question on the number of leased employees working in the company.

The Census Bureau conducts the annual COS in order to update and maintain a central, multipurpose Business Register (BR), formerly known as the Standard Statistical Establishment List (SSEL). In particular, the COS supplies critical information on the composition, organizational structure, and operating characteristics of multiestablishment enterprises.

COS inquiries to each of the 182,000 multiestablishment enterprises will include questions on ownership or control by a domestic parent, ownership or control by a foreign parent, and ownership of foreign affiliates. Additional COS inquiries will apply to approximately 5,000 enterprises that operate some 25,000 establishments classified in industries that are out-of-scope of the Economic Censuses. These additional inquiries will list an inventory of establishments and request updates to the inventory, including additions, deletions, and changes to Federal Employer Identification number, name and address, and industrial classification. Further, the additional inquiries will collect the following basic operating data for each listed establishment: end-of-year operating status, mid-March employment, first quarter payroll, and annual payroll. The Economic Census will collect data for all other establishments of multiestablishment enterprises, including those items listed above.

Affected Public: Business or other for-profit; not-for-profit institutions; Farms; State, Local or Tribal Government.

Frequency: Annually.

Respondent's Obligation: Mandatory.

Legal Authority: Title 13 U.S.C., Sections 131, 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer, room 10201, New Executive Office Building, Washington, DC 20503.

Dated: September 10, 2002.
Madeleine Clayton,
Management Analyst, Office of the Chief Information Officer.

[FR Doc. 02-23431 Filed 9-13-02; 8:45 am]

BILLING CODE 3510-07-P